DEPARTMENT OF JUSTICE

Drug Enforcement Administration

Manufacturer of Controlled Substances; Notice of Registration

By Notice dated April 18, 2006, and published in the Federal Register on April 25, 2006, (71 FR 23948), Cody Laboratories, Inc., 601 Yellowstone Avenue, Cody, Wyoming 82414, made application by letter to the Drug Enforcement Administration (DEA) to be registered as a bulk manufacturer of the basic classes of controlled substances listed in schedule II:

Drug | Schedule
Codeine (9050) | II
Dihydrocodeine (9120) | II
Methadone (9250) | II
Alfentanil (9737) | II

The company plans to manufacture in bulk, for distribution to its customers.

An objection and a request for a hearing were received by the DEA. In accordance with 21 1301.33 bulk manufacturers applying for or registered in the same basic class of narcotic or non-narcotic controlled substances may submit to the DEA any comments on or objections to the issuance of a proposed application. This regulation does not provide bulk manufacturers the right to request a hearing on the proposed application. No hearing was scheduled to be heard on this matter. DEA has reviewed the objection made against this pending application and has determined that the registration of Cody Laboratories, Inc. to manufacture the listed basic class of controlled substance is consistent with the public interest at this time. DEA has investigated Cody Laboratories, Inc. to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic class of controlled substance listed.

Dated: June 26, 2007.
Joseph T. Rannazzisi,
Deputy Assistant Administrator, Office of Diversion Control, Drug Enforcement Administration.

[FR Doc. E7-12948 Filed 7-3-07; 8:45 am]

BILLING CODE 4410-09-P